EQUAL EMPLOYMENT OPPORTUNITY COMMISSION

Sunshine Act Meeting

Federal Register Citation of Previous Announcement: 69 FR 30293, May 27, 2004.

Previously Announced Time and Date of Meeting: Friday, June 4, 2004, at 10 a.m. (Eastern Time).

Change in the Meeting: The meeting has been cancelled.

FOR FURTHER INFORMATION CONTACT: Stephen Llewellyn, Acting Executive Officer on (202) 663-4070.

Dated: June 2, 2004.
Stephen Llewellyn,
Acting Executive Officer, Executive Secretariat.

[FR Doc. 04-12862 Filed 6-3-04; 9:16 am]

BILLING CODE 6750-06-M